DEPARTMENT OF THE INTERIOR

Bureau of Land Management

[CACA 49537, LLCAD08000, L51030000.ER0000, LVRAB109AA02]

Notice of Availability of the Draft Environmental Impact Statement/Staff Assessment and Possible Amendment to the California Desert Conservation Area Plan for the Calico Solar (Formerly SES Solar One) Project, San Bernardino County, CA

AGENCY: Bureau of Land Management, Interior.

ACTION: Notice of availability.

SUMMARY: The Department of the Interior (DOI), Bureau of Land Management (BLM) and the California Energy Commission (CEC) have jointly released a Draft Environmental Impact Statement (EIS)/Staff Assessment (SA), including a possible Draft Amendment to the California Desert Conservation Area (CDCA) Plan (1980, as amended), for the Calico Solar (formerly Stirling Energy Systems Solar One) Project, San Bernardino County, California. The Draft EIS/SA, prepared in compliance with the National Environmental Policy Act of 1969, as amended (NEPA), the Federal Land Policy and Management Act of 1976, as amended (FLPMA), and the California Environmental Quality Act (CEQA), evaluates the environmental impacts of constructing and operating an 850 megawatt (MW) solar power facility on 8,230 acres of BLM-administered land. The Draft EIS/SA is jointly prepared by the BLM and the CEC in response to Calico Solar, LLC's right-of-way (ROW) application to the BLM and its Application for Certification (AFC) to the CEC.

DATES: The publication of the EPA's Notice of Availability of this Draft EIS in the Federal Register initiates a 90-day public comment period. To ensure that comments will be considered, the BLM must receive written comments on the Draft EIS/SA and plan amendment within 90 days following the date the EPA publishes its Notice of Availability in the Federal Register. The BLM will announce future meetings or hearings and any other public involvement activities at least 15 days in advance through public notices, media releases, and/or mailings.

ADDRESSES: Copies of the Calico Solar Project Draft EIS/SA are available from the BLM Barstow Field Office, 2601 Barstow Road, Barstow, California 92311. The document may also be viewed at public libraries in San Bernardino County, Sacramento, Fresno, San Francisco, Los Angeles, Eureka, and San Diego, California.

FOR FURTHER INFORMATION CONTACT: Jim Stobaugh, BLM Project Manager, by mail: P.O. Box 12000, Reno, Nevada 89520; phone: (775) 861-6478; or e-mail: Jim_Stobaugh@blm.gov.

SUPPLEMENTARY INFORMATION: On March 14, 2007, SES Solar Six, LLC and SES Solar Three, LLC submitted applications for ROW grants to the BLM to construct and operate a concentrated solar dish power plant facility on Federal public lands in San Bernardino County, California. The two ROW application areas were subsequently combined into one project (SES Solar One) proposed for an 8,230-acre site located immediately north of Interstate 40, approximately 37 miles east of Barstow, California. On December 2, 2008, SES Solar One, LLC (SES Solar Three, LLC and SES Solar Six, LLC) submitted an AFC to the CEC to construct and operate the SES Solar One Project. In January 2010, the project name was formally changed to Calico Solar as a result of SES Solar Three, LLC merging with SES Solar Six, LLC to create Calico Solar, LLC.

The proposed action is to construct an 850-MW, 8,230-acre (13 square mile) solar energy facility on BLM-administered land. Approximately 1,718 acres of public land within the proposed project area were either donated to the BLM or acquired by the BLM with Land and Water Conservation Funds (LWCF). The project proposal includes building about 34,000, 25-kilowatt Stirling solar dish systems. Each solar dish system consists of an approximately 38-foot high by 40-foot wide solar concentrator dish that supports an array of curved glass mirrors. These mirrors would automatically track the sun and focus solar energy onto a power conversion unit that generates electricity.

The Calico Solar Project would also include a number of related facilities and infrastructure, including:

• A new 230-kilovolt (kV) Calico Substation; approximately 2 miles of single-circuit 230-kV transmission line to connect the new Calico Substation to the existing Southern California Edison (SCE) Pisgah Substation;

• Project roads and fencing;

• An administration building; and

• A 45,000 square foot main services complex.

Approximately 739 feet of the new 230-kV transmission line would be outside of the project area. The solar facility would operate for about 20 years based on the Purchase Power Agreement signed with SCE on August 9, 2005. Upgrades to the SCE transmission system are needed to transmit the electricity generated from the Calico Solar Project. These upgrades would take place outside the Calico Solar project area.

The BLM is considering amending the CDCA Plan as part of the proposed action. The CDCA Plan requires that all sites associated with power generation or transmission not identified in the CDCA Plan be considered through the BLM land use planning amendment process. If the BLM decides to approve the ROW grant, the BLM would also amend the CDCA Plan, as required. The BLM's proposed action in the Draft EIS/SA is to authorize the 850-MW Calico Solar Project and approve the CDCA Plan amendment in response to the application received from Calico Solar, LLC.

The action alternatives include: (1) The proposed action (as described above); (2) a 720-MW, 6,512-acre (10.2 square mile) alternative which avoids the 1,718 acres of donated and LWCF-acquired lands; and (3) a reduced acreage alternative (2,320 acres (3.6 square mile)) which would connect a proposed 275-MW transmission upgrade to the SCE grid capacity. As required under CEQA and NEPA, the EIS is also analyzing the following three “no action” alternatives: (1) Deny the Calico Solar Project applications and not amend the CDCA Plan; (2) deny the Calico Solar Project but amend the CDCA Plan to allow other solar energy projects on the proposed project site; and (3) deny the Project and amend the CDCA Plan to prohibit solar energy projects on the proposed project site. As part of its review of the Calico Solar, LLC applications, the BLM will consider the Energy Policy Act of 2005, Secretarial Order 3283 Enhancing Renewable Energy Development on the Public Lands, and Secretarial Order 3285 Renewable Energy Development by the Department of the Interior.

If the Calico Solar Project is approved and constructed, a number of related future actions are also anticipated. The NEPA and CEQA require examination of reasonably foreseeable actions resulting from a project under consideration. Accordingly, the Draft EIS/SA examines the construction and operational impacts of future SCE transmission substation/transmission line upgrade options and the nature and scope of the probable impacts of each scenario, should they occur as a result of the approval of the Calico Solar Project. These future scenarios would require additional utility and ROW applications from SCE and additional environmental review under CEQA and NEPA.

The BLM's purpose and need for the Calico Solar project is to respond to the Calico Solar, LLC's application for a ROW grant to construct, operate, and decommission a solar thermal facility on public lands in compliance with Title V of FLPMA (43 U.S.C. 1761), the BLM's ROW regulations, and other applicable Federal laws. Upon completion and consideration of the Final EIS/SA, the BLM will decide whether to approve, approve with modification, or deny issuance of a ROW grant to Calico Solar, LLC for the proposed Calico Solar Project.

A joint Federal-State environmental review of the Calico Solar Project is being prepared as a result of a 2007 Memorandum of Understanding (MOU) between the California Desert District of the BLM and the CEC to conduct joint environmental review of solar thermal projects that are proposed on Federal land managed by the BLM in California. The MOU assigns the CEC as the lead agency for preparing the environmental documents. The joint environmental review is being conducted in a single combined NEPA/CEQA analysis process and document. The Draft EIS/SA analyzes site-specific impacts of the proposed project on air quality; biological, cultural, water, soil, visual, paleontological, and geologic resources; recreation; land use; noise; public health; socioeconomics; and traffic and transportation. The Draft EIS/SA also addresses hazardous materials handling, waste management, worker safety, fire protection, facility design engineering, transmission system engineering, transmission line safety, and nuisance.

Additionally, the applicant has applied to the Department of Energy (DOE) for a loan guarantee under Title XVII of the Energy Policy Act of 2005, as amended by Section 406 of the American Recovery and Reinvestment Act of 2009, Public Law 111-5. Should the DOE decide to enter into negotiation of a possible loan guarantee with the Applicant, the DOE would become a cooperating agency in developing the Final EIS. The purpose and need for action by the DOE would be to comply with its mandate under the Energy Policy Act of 2005 to select eligible projects that meet the goals of the Act.

A Notice of Intent to Prepare an EIS/SA and Land Use Plan Amendment for the SES Solar One Project (now called Calico Solar), San Bernardino County, California was published in the Federal Register on June 8, 2009 (73 FR 27176). The BLM held a public scoping meeting in Barstow, California, on June 22, 2009. The formal 30-day public scoping period ended July 7, 2009.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10 and 43 CFR 1610.2.

Tom Pogacnik,
Deputy State Director.

[FR Doc. 2010-8910 Filed 4-16-10; 8:45 am]

BILLING CODE 4310-40-P